DEPARTMENT OF LABOR

Employment and Training Administration

Proposed Collection; Comment Request

ACTION: Notice.

SUMMARY: The Department of Labor, as part of its continuing effort to reduce paperwork and respondent burden, conducts a pre-clearance consultation process to provide the general public and Federal agencies with an opportunity to comment on proposed and/or continuing collections of information in accordance with the Paperwork Reduction Act of 1995 (PRA95) (44 U.S.C. 3506(c)(2)(A)). This process helps to ensure that requested data can be provided in the desired format, reporting burdens are minimized, collection instruments are clearly understood, and the impact of collection requirements on respondents can be properly assessed. Currently, the Employment and Training Administration (ETA) is soliciting comments concerning the reporting requirements for the Disability Employment Grant and the Disability Information Technology Grant Programs for the FY 04-07 funding periods. The reports submitted for comment include the quarterly Activity and Placement Report (APR) and annual Participant Characteristics Report (PCR).

DATES: Written comments must be submitted to the office listed in the ADDRESSES section below on or before January 26, 2004.

ADDRESSES: Alexandra K. Kielty, Chief, Division of Disability and Workforce Programs, Rm. S-5206, 200 Constitution Avenue, NW., Washington, DC 20210. Telephone: (202) 693-3730 (VOICE), (202) 693-3818 (FAX) (these are not toll-free numbers) or e-mail: Kielty.Alexandra@dol.gov.

SUPPLEMENTARY INFORMATION:

I. Background

The Employment and Training Administration of the Department of Labor is considering revising the reporting forms that correspond to OMB NO.: 1205-0416 which implements reporting requirements for the Disability Employment Grant Program for the fiscal years 1999 and 2000. Reporting impacts 15 grants for the last two years of a three year grant cycle which began July 1, 1998. The grants are awarded for one year plus two option years. These reports will also be used for similar disability related grants administered by ETA.

II. Review Focus

The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions

The proposed Information Collection Request establishes reporting requirements for this discretionary grant program which is funded under the Workforce Investment Act (WIA) Title I. The Activity and Placement Report (APR) includes information on the number of participants being served, activities and services provided, and planned outcomes. The Participant Characteristics Report (PCR) covers information on age, race, educational level and types of disability.

In addition to these reports, grantees are required to provide a quarterly Financial Status Report (FSR), SF 269 which is approved under OMB Clearance #0348-0039.

Type of Review: Revision.

Agency: Employment and Training Administration.

Title: Disability Employment Grant Program and Disability Information Technology Grant Program.

OMB Number: 1205-0416.

Catalog of Federal Domestic Assistance Number: 17.248.

Frequency: Quarterly for Activity and Placement Report (APR) ETA Form No. 9077 and Annually for participant Characteristic Report (PCR) ETA Form No. 9078.

Affected Public: National not-for-profit organizations.

Form | Total respondents | Frequency | Total responses | Avg. time per responses (hours) | Estimated total burden hours
ETA 9077 | 16 | Quarterly | 64 | 20 | 1,280
ETA 9078 | 16 | Annually | 16 | 20 | 320
ETA SF-269 | 16 | Quarterly | 64 | 20 | 1,280
Totals |  |  | 144 |  | 2,880

Number of Respondents: 16.

Total Responses: 144; (16 respondents × 4 Quarterly Reports) = 64 + (16 respondents × 1 annual report) = 16 + (16 respondents × 4 Quarterly Reports) = 16 Total = 144 Annual Responses.

Estimated Time Per Respondent: 180 Hours; 20 Hours × 4 APRs +(20 hrs. SF-269 × 4) + (20 hrs.PCR) = 180 hrs.per respondent.

Total Burden Hours: 2,880hrs. (Note: Estimate is based on having 20 respondents).

Total Burden Cost (capital/startup): $0.00.

Total Burden Cost (operating/maintaining): $1,200.00.

Description: The disAbility Employment Initiative Grant Programs give partial funds to National organizations that engage in employment training and services for people with disabilities to obtain competitive employment. The Activity and Placement Report (APR) gives the number of participants being served, activities and services provided, and placement outcomes. The Participant Characteristics Report (PCR) gives participant information in age, race, type of disAbility, etc. These funds are taken from the WIA Title I (29 U.S.C. 2916(c)(1)). There is a requirement to have grantees complete quarterly an Activity Placement Report (APR) [29 U.S.C. 2917(a)(1)] and a Standard Form 269 (SF-269). A Participant Characteristic Report (PCR) is submitted annually to provide an overview of participants that were served during the program year) (29 U.S.C. 2917(a)(1))]. Respondents submit a narrative as part of the quarterly report package. The narrative states activities of the participants in the organization during the previous three months.

Signed in Washington, DC this 11th day of November, 2003.
Emily Stover DeRocco,
Assistant Secretary for Employment and Training.

[FR Doc. 03-29534 Filed 11-25-03; 8:45 am]

BILLING CODE 4510-30-P